ENVIRONMENTAL PROTECTION AGENCY

[FRL-9203-2]

Clean Water Act Section 303(d): Notice for the Public Review of the Draft Total Maximum Daily Load (TMDL) for the Chesapeake Bay

AGENCY: Environmental Protection Agency (EPA).

ACTION: Notice of Availability of the Draft TMDL and request for public review and comment on the Draft TMDL.

SUMMARY: This notice announces the availability of EPA's Draft Chesapeake Bay (Bay) TMDL for nutrients and sediment for public review and comment and announces the information regarding public meetings on the Draft TMDL being held within the watershed. EPA is establishing the Draft TMDL for nutrients (nitrogen and phosphorus) and sediment for each of the 92 segments in the tidal portion of the Chesapeake Bay watershed pursuant to Sections 117(g) and 303(d) of the Clean Water Act (CWA). As such this Draft TMDL will contain at minimum 92 segment specific point (wasteload) and non-point (load) allocations for nitrogen, phosphorous and sediment that will assure the attainment and maintenance of all applicable water quality standards for each of the 92 segments. The Bay TMDL is a key part of the clean water commitment in the Federal Strategy developed as part of Executive Order 13508 on Chesapeake Bay Protection and Restoration. EPA intends to work with federal partners, the six watershed states, the District of Columbia, local governments and other parties to put in place a comprehensive, transparent and accountable set of commitments and actions that together ensure that pollution controls needed to restore Bay water quality are implemented by no later than 2025 (Executive Order, 13508).

To provide information to the public regarding the process, approach and implications of the Draft Bay TMDL, EPA will hold a series of informal public meetings on the dates and locations identified below. The goal of these meetings is to assist the public in their understanding of the Draft Bay TMDL and provide an overview of the TMDL process, especially the stakeholder review and comment process. EPA will verbally respond to as many questions as time permits at these public meetings. Formal comments that any stakeholder wishes to make must be written and submitted as described below and will be entered into the public record. By this notice, EPA is soliciting input from the public on the Draft Bay TMDL. EPA will review all written comments submitted during the public comment period and will consider them, as appropriate, in establishing the Final TMDL. Persons wishing to comment on the information contained in the TMDL are invited to do so in writing from September 24, 2010 to November 8, 2010. All comments must be postmarked no later than November 8, 2010. All comments must be written, include the name, address and telephone number of the commenter, and should be as concise and as specific as possible in order for EPA to develop a meaningful response. Electronic submission of comments as described below is encouraged. Additional information on the Draft Bay TMDL and on the public meetings can be found at http://www.epa.gov/chesapeakebaytmdl.

DATES: Comments on the Draft TMDL must be submitted in writing to EPA on or before November 8, 2010.

Viewing: The Draft TMDL can be viewed at http://www.epa.gov/chesapeakebaytmdl, EPA's Docket Center (instructions below), in person at EPA Region III, 1650 Arch Street, Philadelphia, PA 19103 with proper arrangements made in advance with the Region 3 library (215-814-5254 or library-reg3@epa.gov) or at the EPA Chesapeake Bay Program Office at 410 Severn Avenue Suite 112, Annapolis, MD 21403 (Contact Debbie Embleton 410-267-9856 or Embleton.debbie@epa.gov).

ADDRESSES: Submit your comments, identified by Docket ID No. EPA-R03-OW-2010-0736, by one of the following methods:

(1) http://www.regulations.gov: After entering the docket for this action, click on the Draft Bay TMDL to make a comment. Click the “Submit a Comment” button at the top right of the Web page, then follow the online instructions.

(2) Mail: Water Docket, Environmental Protection Agency, Mailcode: 28221T, 1200 Pennsylvania Ave., NW., Washington, DC 20460.

(3) Hand Delivery: EPA Docket Center Public Reading Room, EPA Headquarters West, Room 3334, 1301 Constitution Avenue, NW., Washington, DC. Such deliveries are only accepted during the Docket's normal hours of operation (8:30 a.m. to 4:30 p.m.), and special arrangements should be made for deliveries of boxed information by contacting the Docket Center at 202-566-1744.

Instructions: Direct your comments to Docket ID No. EPA-R03-OW-2010-0736. This Notice is not open for public comment, but, beginning September 24, 2010 the Draft Bay TMDL is available for comment on http://www.regulations.gov. Additional information about the docket is contained below.

FOR FURTHER INFORMATION CONTACT: For information on the Draft Bay TMDL, please contact Jennifer Sincock, USEPA, Region 3, Water Protection Division (3WP30), 1650 Arch Street, Philadelphia, PA 19103; telephone number: (215) 814-5766; fax number: (215) 814-2318; e-mail: R3_ChesapeakeBay_TMDL@epa.gov.

Public Meeting Dates and Locations

• Wednesday, September 29, 2010: DC Watershed meeting and webinar from 1 to 3 p.m. at the Washington National Zoo Visitor Center Auditorium, 3001 Connecticut Avenue, NW., Washington, DC.

• Monday, October 4, 2010: VA Watershed meeting from 6 to 8 p.m. at the Grafton Theatre, James Madison University, 281 Warren Service Drive, Harrisonburg, VA.

• Tuesday, October 5, 2010: VA Watershed meeting from 6 to 8 p.m. at Northern Virginia Community College, Annandale Campus, Ernst Community Cultural Center, 8333 Little River Turnpike, Annandale VA.

• Wednesday, October 6, 2010: VA Watershed meeting from 6 to 8 p.m. at the Robins Pavilion Jepson Alumni Center, University of Richmond, 28 Westhampton Way, Richmond, VA.

• Thursday, October 7, 2010: VA Watershed webinar from 1 to 3 p.m.

• Thursday, October 7, 2010: VA Watershed meeting from 6 to 8 p.m. at the Crowne Plaza Hampton Marina Hotel, 700 Settlers Landing Road, Hampton, VA.

• Monday, October 11, 2010: DE Watershed meeting and webinar from 5 to 7 p.m. at the Delaware Tech Owens Campus, Arts and Science Center Theatre, Route 18, Georgetown, DE.

• Tuesday, October 12, 2010: MD Watershed meeting from 2 to 4 p.m. at The Easton Club 28449 Clubhouse Drive, Easton, MD.

• Wednesday, October 13, 2010: MD Watershed meeting from 2 to 4 p.m. at the Sheraton Annapolis, 173 Jennifer Road, Annapolis, MD.

• Thursday, October 14, 2010: MD Watershed meeting and webinar from 2 to 4 p.m. Hagerstown Hotel and Convention Center, 1901 Dual Highway, Hagerstown, MD.

• Monday, October 18, 2010: PA Watershed meeting from 2 to 4 p.m. at the Best Western Eden Resort, 222 Eden Road, Lancaster, PA.

• Tuesday. October 19, 2010: PA Watershed meeting from 2 to 4 p.m. at the Knights of Columbus, 850 Stratford Drive, State College, PA.

• Wednesday, October 20, 2010: PA Watershed meeting and webinar from 2 to 4 p.m. at Lycoming College, The Academic Center Wendle Hall, 700 College Place, Williamsport, PA.

• Thursday, October 21, 2010: PA Watershed meeting from 2 to 4 p.m. at Bentley's, 2300 Route 309, Ashley, PA.

• Tuesday, October 26, 2010: NY Watershed meeting from 6 to 8 p.m. at the Riverview Holiday Inn, 760 East Water Street, Elmira, NY.

• Wednesday, October 27, 2010: NY Watershed meeting and webinar from 2 to 4 p.m. at the Binghamton Regency Hotel, 225 Water Street, Binghamton, NY.

• Wednesday, November 3, 2010: WV Watershed meeting from 6 to 8 p.m. at the Comfort Inn, 1872 Edwin Miller Blvd, Martinsburg, WV.

• Thursday, November 4, 2010: WV Watershed meeting and webinar from 6 to 8 p.m. at the South Branch Inn, Route 50 East, Romney, WV.

• Please check the Web site http://www.epa.gov/chesapeakebaytmdl to confirm the meeting or webinar date and time. Alternately, you may also contact Jennifer Sincock by telephone at (215) 814-5766 or by e-mail at R3_ChesapeakeBay_TMDL@epa.gov

• To register for the webinars, please go to the following link and follow the webinar registration instructions, http://www.epa.gov/chesapeakebaytmdl. Webinars are open to all interested stakeholders not just residents within the jurisdiction that the webinar is held. Registration is only required to attend the meetings via webinar. Attending the public meetings in person does not require registration.

SUPPLEMENTARY INFORMATION: Section 303(d) of the CWA requires that each state identify those waters within its boundaries for which existing technology-based and other pollution controls required by the CWA are not stringent enough to attain or maintain state water quality standards. A TMDL must be established for each of those “impaired” waters. TMDLs are pollution budgets designed to identify necessary reductions of pollutant loads to the impaired waters so that the appropriate water quality standards are met, including designated uses like fishing or swimming and water quality criteria for parameters such as dissolved oxygen and water clarity.

Why is a TMDL being developed for the Chesapeake Bay? The Chesapeake Bay is a national treasure constituting the largest estuary in the United States and one of the largest and most biologically productive estuaries in the world. Despite significant efforts by federal, state, and local governments and other interested parties, water pollution in the Chesapeake Bay prevents the attainment of existing state water quality standards. The pollutants that are largely responsible for impairment of the Chesapeake Bay are nutrients, in the form of nitrogen and phosphorus, and sediment. EPA, in coordination with the Bay watershed jurisdictions of Delaware, the District of Columbia, Maryland, New York, Pennsylvania, Virginia, and West Virginia, is establishing a nutrient and sediment pollution budget for the Bay consistent with CWA requirements to guide and assist Chesapeake Bay restoration efforts.

When will the Bay TMDL be completed? The TMDL schedule calls for the completion of the Bay TMDL by December 31, 2010. EPA intends to collect public comments on the Draft TMDL between September 24 and November 8, 2010. EPA will establish the Final TMDL by December 31, 2010.

Who is developing the Bay TMDL? EPA Region III Water Protection Division has assumed primary responsibility for the establishment of the Bay TMDL, at the request of the Bay jurisdictions. The Chesapeake Bay Program Office in EPA Region III has modeling and water quality expertise that is critical to the TMDL development process. EPA Region II also is providing guidance and technical support to Region III and will cosign the final TMDL as New York State is included in the Chesapeake Bay watershed, and sources in New York State (like the other jurisdictions) contribute nutrients and sediment to the Bay. EPA used the Chesapeake Bay Program committee structure to engage the watershed jurisdictions in the development of the TMDL, including the Chesapeake Bay Water Quality Goal Implementation Team (formerly the Water Quality Steering Committee and Nutrient Subcommittee), which is composed of the seven Bay watershed jurisdictions, the Chesapeake Bay Commission, the Susquehanna River Basin Commission, the Interstate Commission on the Potomac River Basin, and EPA Regions II and III. Major policy input has been provided by the Chesapeake Bay Program Principals' Staff Committee (Secretaries from each Bay jurisdiction, the Chesapeake Bay Commission Executive Director, and the EPA Region III Regional Administrator) and Executive Council (Bay watershed State Governors, Mayor of District of Columbia, the Chesapeake Bay Commission Chair, and the EPA Administrator).

What is the scope of the Bay TMDL? The Bay TMDL addresses all segments of the Chesapeake Bay and its tidal tributaries. The Bay TMDL consists of 92 TMDLs, addressing nitrogen, phosphorus and sediment, for each of the 92 segments in the Bay and tidal tributaries. EPA intends that the Bay TMDL will be established at a level necessary to ensure attainment of water quality standards in each of these segments. In addition, the Bay TMDL assigns individual and (as appropriate) aggregate maximum daily allowable point source and nonpoint source loadings, called wasteload allocations (WLAs) and load allocations (LAs), respectively, across all jurisdictions within the Bay watershed. When completed, the Bay TMDL will be the largest, most complex TMDL in the country, covering a 64,000 square mile area in six states and the District of Columbia.

How will the TMDL promote nitrogen, phosphorus and sediment reductions? Under the CWA, the TMDL will establish the watershed pollution budget for nutrients and sediment necessary to meet water quality standards in the Bay. Other provisions of the CWA, as well as the jurisdictions' Watershed Implementation Plans (WIPs), are intended to implement the TMDL. During TMDL development, EPA worked with its partners, the Bay jurisdictions, to assist them in developing individual jurisdiction-specific WIPs, which collectively serve as part of the overall TMDL implementation framework. Those WIPs are not part of the Bay TMDL itself but are part of the TMDL record and help provide reasonable assurance that the necessary nutrient and sediment reductions identified in the TMDL will be achieved. The WIPs identify specific nutrient and sediment reduction targets by geographic location and sector to achieve allowable loadings, as well as a description and schedule of actions that the jurisdictions will take to achieve these reductions.

In accordance with EO 13508, EPA and the jurisdictions also will provide the next set of two-year milestone commitments specifying what source controls will be taken to reduce nitrogen, phosphorus and sediment during that period. EPA has invited each jurisdiction to present information on its WIP at the meeting(s) and/or webinar(s) within its jurisdiction. At these meetings EPA will be available to answer questions on the TMDL and how the WIPs will inform the TMDL. Any questions or comments regarding the substance of the individual WIPs, or the WIPs themselves should be addressed to the individual jurisdiction. Links to the WIPs are available at http://www.epa.gov/chesapeakebaytmdl.

For information on the jurisdictions' Draft WIPs and procedures for submitting comments, please contact the jurisdiction representatives below.

Jurisdiction WIP Contacts

Delaware: Jennifer Volk (Jennifer.Volk@state.de.us).

District of Columbia: Monir Chowdhury (monir.chowdhury@dc.gov).

Maryland: TMDL Coordinator (tmdlcoordinator@mde.state.md.us).

New York: Peter Freehafer (pbfreeha@gw.dec.state.ny.us).

Pennsylvania: Patricia Buckley (ep-chesapeakebayprogram@state.pa.us).

Virginia: VA Bay TMDL (vabaytmdl@dcr.virginia.gov).

West Virginia: Jennifer Pauer (Jennifer.pauer@wv.gov).

Paperwork Reduction Act: The Office of Management and Budget (OMB) has previously approved the information collection requirements for developing TMDLs pursuant to Section 303(d) of the CWA under the provisions of the Paperwork Reduction Act, 44 U.S.C. 3501 et seq. and has assigned OMB control number 2040-0071. The OMB control numbers for EPA's regulations in 40 CFR are listed in 40 CFR part 9.

How Can I Access the Docket and/or Submit Comments? Docket: EPA has established a public docket for this Notice under Docket ID No. EPA-R03-OW-2010-0736. The Draft Bay TMDL is available in the docket at http://www.regulations.gov. Assistance and tips for accessing the docket can be found at http://www.epa.gov/chesapeakebaytmdl.

Comments via e-mail are not being accepted. Instead, comments will be accepted through http://www.regulations.gov and by mail. All comments received, including any personal information provided, will be included in the public docket without change and will be made available online at http://www.regulations.gov, unless the comment includes information claimed to be Confidential Business Information (CBI) or other information, the disclosure of which is restricted by statute. Do not submit information that you consider to be CBI or otherwise protected through http://www.regulations.gov. It is recommended that you include your name and other contact information in the body of your comment and with any disk or CD-ROM you submit. If your comment cannot be read due to technical difficulties and we are unable to contact you for clarification, we will not consider your comment. Electronic files should avoid the use of special characters, any form of encryption, and be free of any defects or viruses. For additional information about the public docket visit the EPA Docket Center homepage at http://www.epa.gov/epahome/dockets.htm. Publicly available docket materials are available electronically either at http://www.regulations.gov as well as at the EPA Docket Center, EPA/DC, EPA West, Room 3334, 1301 Constitution Ave., NW., Washington, DC. The telephone number for this docket is 202-566-2426. The Public Reading Room is open from 8:30 a.m. to 4:30 p.m., Monday through Friday, excluding legal holidays. The telephone number for the Public Reading Room is (202) 566-1744. Certain material, such as copyrighted materials, will be publicly available only in hard copy at the Docket Center.

Dated: September 15, 2010.
Jon M. Capacasa,
Water Protection Division, Region III.

[FR Doc. 2010-23678 Filed 9-21-10; 8:45 am]

BILLING CODE 6560-50-P